ELECTION ASSISTANCE COMMISSION

Sunshine Act Notice

AGENCY: United States Election Assistance Commission.

ACTION: Notice of public meeting (amended).

Date & Time: Thursday, June 19, 2008, 1-5 p.m.

Place: U.S. Election Assistance Commission, 1225 New York Ave, NW., Suite 150, Washington, DC 20005, (Metro Stop: Metro Center).

Agenda: The Commissioners will consider the following items: Commissioners will consider and vote on whether to modify Advisory Opinion 07-003-A regarding Maintenance of Effort (MOE) funding, pursuant to HAVA Section 254(a)(7). Commissioners will consider and vote on a Proposed Replacement Advisory Opinion 07-003-B Regarding Maintenance of Effort. Commissioners will consider the Adoption of EAC Draft Chapters of the Election Management Guidelines Project; Commissioners will consider a Draft Policy for Joint Partnership Task Force of EAC and State Election Officials Regarding Spending of HAVA Funds; Commissioners will consider a Draft Policy for Notice and Public Comment; Commissioners will consider a Draft Policy regarding Allocable Cost Principles for HAVA Funding. Commissioners will consider whether to update the Maryland state instructions, the Michigan state instructions and the Louisiana state instructions on the national voter registration form. Commissioners will consider Administrative Regulations. Commissioners will receive a briefing regarding a HAVA State Spending Report to Congress; Commissioners will receive a Presentation on a Draft of EAC Guidance to States Regarding Updates to the State Plans; Commissioners will receive a Presentation on EAC Draft Chapters of the Election Management Guidelines Project. The Commission will consider other administrative matters.

This meeting will be open to the public.

Person to Contact for Information: Bryan Whitener, Telephone: (202) 566-3100.

Thomas R. Wilkey,
Executive Director, U.S. Election Assistance Commission.

[FR Doc. E8-13657 Filed 6-17-08; 8:45 am]

BILLING CODE 6820-KF-M